DEPARTMENT OF LABOR

Occupational Safety and Health Administration

Susan Harwood Training Grant Program, FY 2002 Budget; Revised Notice

AGENCY: Occupational Safety and Health Administration (OSHA), Labor.

ACTION: Extension of grant application deadline.

SUMMARY: This notice extends the Susan Harwood Training Grant Program application deadline from June 21, 2002, to July 5, 2002.

The notice of availability of funds and request for grant applications was originally published in the Federal Register, 67 FR 36024, May 22, 2002. Organizations interested in submitting a grant application should refer to the May 22 Federal Register notice which describes the scope of the grant program and provides information about how to get detailed grant application instructions. Applications should not be submitted without the applicant first obtaining detailed grant application instructions.

DATES: Grant application deadline is Friday, July 5, 2002. Grant applications must be received in the Des Plaines, Illinois, office by 4:30 p.m. Central Time, Friday, July 5, 2002.

ADDRESSES: Submit one signed original and three copies of each grant application to the attention of Grants Officer, U. S. Department of Labor, OSHA Office of Training and Education, Division of Training and Educational Programs, 1555 Times Drive, Des Plaines, Illinois 60018.

FOR FURTHER INFORMATION CONTACT: Ernest Thompson, Chief, Division of Training and Educational Programs, or Cynthia Bencheck, Program Analyst, OSHA Office of Training and Education, 1555 Times Drive, Des Plaines, Illinois 60018, telephone (847) 297-4810. This is not a toll-free number. E-mail cindy.bencheck@osha.gov.

The Occupational Safety and Health Act of 1970 and the Departments of Labor, Health and Human Services, and Education, and Related Agencies Appropriation Act, Pub. L. 107-116, authorize this program.

Signed at Washington, DC, this 7th day of June 2002.
John L. Henshaw,
Assistant Secretary of Labor.

[FR Doc. 02-14953 Filed 6-12-02; 8:45 am]

BILLING CODE 4510-26-P